TENNESSEE VALLEY AUTHORITY

[Meeting No. 10-02]

Sunshine Act; Meeting Notice

April 16, 2010.

The TVA Board of Directors will hold a public meeting on April 16, 2010, at the TVA West Tower Auditorium, 400 West Summit Hill Drive, Knoxville, Tennessee, to consider the matters listed below. The public may comment on any agenda item or subject at a public listening session which begins at 8:30 a.m. Immediately following the end of the public listening session, the meeting will be called to order to consider the agenda items listed below. Please Note: Speakers must pre-register online at TVA.gov or sign in before the meeting begins at 8:30 a.m. on the day of the meeting. The Board will answer questions from the news media following the Board meeting.

STATUS: Open.

Agenda

Old Business

Approval of minutes of February 11, 2010, Board Meeting.

New Business

1. Chairman's Report.

2. President's Report.

3. Report of the Finance, Strategy, Rates, and Administration Committee.

A. Annual quote for a directly served customer

4. Report of the Operations, Environment, and Safety Committee.

5. Report of the Audit, Governance, and Ethics Committee.

A. Designation of Corporate Secretary

6. Report of the Community Relations and Energy Efficiency Committee.

A. Public auction for industrial development purposes

B. Land allocation zone changes

C. Land allocation change for Tennessee Department of Transportation I-24 interchange

D. Valley Investment Initiative program change

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: April 9, 2010.
Maureen H. Dunn,
General Counsel and Secretary.

[FR Doc. 2010-8601 Filed 4-12-10; 11:15 am]

BILLING CODE 8120-08-P